DEPARTMENT OF STATE

[Public Notice 6336]

Designation of Entities Under Section 4(a)(1) of the Libyan Claims Resolution Act of 2008

SUMMARY: Pursuant to Section 4(a)(1) of the Libyan Claims Resolution Act, enacted August 4, 2008 (Pub. L. 110-301), I hereby designate the following entities to assist in providing compensation to the nationals of the United States, pursuant to the Claims Settlement Agreement between the United States and Libya of August 14, 2008:

1—The Humanitarian Settlement Fund, Tripoli, Libya

2—Citibank, N.A., New York, NY

3—The Federal Reserve Bank of New York

4—The U.S. Department of the Treasury

5—The Libyan Foreign Bank, Tripoli, Libya

Accordingly, property related to the entities shall be accorded the immunity provided for in section 4(b) of the Libyan Claims Resolution Act in addition to any other applicable immunity notwithstanding any other provision of the law, and the entities and any other person acting or on behalf of them shall not be liable in any Federal or State court for any action to implement The Claims Settlement Agreement between the United States and Libya of August 14, 2008.

This designation shall be effective August 26, 2008.

Condoleezza Rice,
Secretary of State, Department of State.

[FR Doc. E8-19980 Filed 8-26-08; 8:45 am]

BILLING CODE 4710-10-P